INTERNATIONAL TRADE COMMISSION

[Investigation No. 337-TA-1213]

Notice of a Commission Determination Not to Review an Initial Determination Granting Return of Bond; Termination of Bond Return Proceeding; Certain Light-Emitting Diode Products, Fixtures, and Components Thereof

AGENCY: U.S. International Trade Commission.

ACTION: Notice.

SUMMARY: Notice is hereby given that the U.S. International Trade Commission (“Commission”) has determined not to review an initial determination (“ID”) (Order No. 28) of the presiding administrative law judge (“ALJ”), granting a motion filed by RAB Lighting Inc. of Northvale, New Jersey (“RAB”) seeking a return of its bond. The bond return proceeding is terminated.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on August 17, 2020, based on a complaint filed on behalf of Ideal Industries Lighting LLC d/b/a Cree Lighting (“Cree”) of Durham, North Carolina. 85 FR 50047-48 (Aug. 17, 2020). The complaint, as supplemented, alleged violations of the Tariff Act of 1930, as amended, 19 U.S.C. 1337 (“section 337”), based upon the importation into the United States, the sale for importation, and the sale within the United States after importation of certain light-emitting diode products, fixtures, and components thereof by reason of infringement of certain claims of U.S. Patent Nos. 8,403,531 (“the '531 patent”); 8,596,819 (“the '819 patent”); 8,777,449 (“the '449 patent”); 9,261,270 (“the '270 patent”); and 9,476,570 (“the '570 patent”). The complaint further alleged the existence of a domestic industry. The Commission's notice of investigation named RAB as the sole respondent. The Office of Unfair Import Investigations did not participate in the investigation.

On October 25, 2021, the Commission determined to review in part a final ID on violation issued by the presiding Administrative Law Judge. 86 FR 60071-72 (Oct. 29, 2021). The Commission determined not to review the final ID's finding of a violation of section 337 with respect to the '270 and '570 patents and finding of no violation with respect to the '449 patent.

On December 16, 2021, the Commission issued a final determination affirming the final ID's finding of no violation as to the '531 and '819 patents. 86 FR 72623-24 (Dec. 22, 2021). As a remedy for the finding of a violation with respect to the '270 and '570 patents, the Commission issued a limited exclusion order (“LEO”) directed against RAB's infringing products and a cease and desist order (“CDO”) directed against RAB. Id.

Cree and RAB each timely appealed the Commission's final determination to the U.S. Court of Appeals for the Federal Circuit. The separate appeals were subsequently consolidated. On March 28, 2022, the Cree and RAB jointly moved to voluntarily dismiss their appeal and cross-appeal. See Ideal Industries Lighting LLC v. ITC, Appeal Nos. 2022-1484, -1501, Joint Stipulation for Voluntary Dismissal (Mar. 28, 2022). The Federal Circuit granted the motion and dismissed the appeals the following day. See Ideal Industries Lighting LLC v. ITC, Appeal Nos. 22-1484, -1501, Order (Fed. Cir. Mar. 29, 2022).

On April 8, 2022, Cree and RAB jointly petitioned to rescind the previously-issued LEO and CDO based on settlement pursuant to section 337(k) (19 U.S.C. 1337(k)) and Commission Rule 210.76(a) (19 CFR 210.76(a)). On May 6, 2022, the Commission granted the parties' petition and rescinded the remedial orders. 87 FR 29178-79 (May 12, 2022).

On April 13, 2022, RAB filed an unopposed motion seeking the return of bond paid by RAB under the CDO and LEO during the period of Presidential review to the Commission and U.S. Customs and Border Protection, respectively.

On May 18, 2022, the ALJ issued Order No. 28, the subject ID, granting the motion pursuant to Commission Rule 210.50(d)(3) (19 CFR 210.50(d)(3)). The ID finds that RAB satisfied the procedural requirements for the return of bond and that there is no reason to deny the motion.

No party filed a petition for review of the subject ID.

The Commission has determined not to review the subject ID.

The Commission vote for this determination took place on June 29, 2022.

The authority for the Commission's determination is contained in section 337 of the Tariff Act of 1930, as amended (19 U.S.C. 1337), and in Part 210 of the Commission's Rules of Practice and Procedure (19 CFR part 210).

By order of the Commission.
Issued: June 29, 2022.
Katherine Hiner,
Acting Secretary to the Commission.

[FR Doc. 2022-14270 Filed 7-1-22; 8:45 am]

BILLING CODE 7020-02-P